FEDERAL COMMUNICATIONS COMMISSION

47 CFR Parts 1, 2, 18

[ET Docket No. 19-226; FCC 19-126; FRS 16643]

Human Exposure to Radiofrequency Electromagnetic Fields; Correction

AGENCY: Federal Communications Commission.

ACTION: Proposed rule; correction.

SUMMARY: The Federal Communications Commission (Commission) is correcting a date that appeared in the Federal Register on April 6, 2020. In this document, the Commission seeks comment on expanding the range of frequencies for which its radiofrequency (RF) exposure limits apply; on applying localized exposure limits above 6 GHz in parallel to the localized exposure limits already established below 6 GHz; on specifying the conditions and methods for averaging the RF exposure, in both time and area, during evaluation for compliance with the RF exposure limits in the rules; on addressing new RF exposure issues raised by wireless power transfer (WPT) devices; and on the definition of a WPT device.

DATES: Comments are due on or before May 15, 2020, and reply comments are due on or before June 15, 2020.

ADDRESSES: Interested parties may submit comments and replies, identified by ET Docket No. 19-226, by any of the following methods:

• Federal Communications Commission's website: http://fja_llfoss.fcc.gov/ecfs2/. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the Commission to request reasonable accommodations (accessible format documents, sign language interpreters, CART, etc.) by email: FCC504@fcc.gov or phone: 202-418-0530 or TTY: 202-418-0432.

For detailed instructions on submitting comments and additional information on the rulemaking process, see the SUPPLEMENTARY INFORMATION section of this document.

FOR FURTHER INFORMATION CONTACT: Martin Doczkat, email: martin.doczkat@fcc.gov of the Office of Engineering and Technology Electromagnetic Compatibility Division; the Commission's RF Safety Program, rfsafety@fcc.gov; or call the Office of Engineering and Technology at (202) 418-2470. For information regarding the Paperwork Reduction Act (PRA) information collection requirements contained in this document, contact Nicole Ongele, Office of Managing Director, at (202) 418-2991 or Nicole.Ongele@fcc.gov.

SUPPLEMENTARY INFORMATION: In FR Doc. 20-06966, appearing on page 19117 in the Federal Register on April 6, 2020, the following correction is made:

1. On page 19117, in the first column, in DATES, the instruction “reply comments are due on or before June 1, 2020.” is corrected to read “reply comments are due on or before June 15, 2020.”

Dated: April 6, 2020.
Federal Communications Commission.
Cecilia Sigmund,
Federal Register Liaison Officer.

[FR Doc. 2020-07866 Filed 4-14-20; 8:45 am]

BILLING CODE 6712-01-P